ARCHITECTURAL AND TRANSPORTATION BARRIERS COMPLIANCE BOARD

[Docket No. ATBCB-2020-0005]

Agency Information Collection Activities; Submission of Renewed Generic Clearance for OMB Review

AGENCY: Architectural and Transportation Barriers Compliance Board.

ACTION: 30-Day notice.

SUMMARY: In accordance with the Paperwork Reduction Act of 1995 (PRA), the Architectural and Transportation Barriers Compliance Board (Access Board) has submitted to the Office of Management and Budget (OMB) a request for renewal of its existing generic clearance to continue to collect qualitative feedback on agency services and programs.

DATES: Submit comments by April 5, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Frances Spiegel, Attorney Advisor, Office of General Counsel, U.S. Access Board, 1331 F Street NW, Suite 1000, Washington, DC 20004-1111. Phone: 202-272-0041 (voice). Email: spiegel@access-board.gov.

SUPPLEMENTARY INFORMATION:

A. Background

Under the PRA and its implementing regulations (5 CFR part 1320), Federal agencies must generally provide opportunities for public comment and obtain OMB approval for each collection of information they conduct or sponsor (e.g., contractually-required information collection by a third-party). “Collection of information” refers to agency informational requests that pose identical questions to, or impose reporting or record-keeping obligations on, ten or more non-federal entities or persons, regardless of whether response is mandatory or voluntary. See 5 CFR 1320.3(c); see also 44 U.S.C. 3502(3).

In December 2020, the Access Board published a 60-day notice concerning the proposed renewal of its existing generic clearance for the collection of qualitative feedback, which expires in May 2021 (OMB Control No. 3014-0011). 82 FR 37421 (Aug. 10, 2017). We received no comments in response to this 60-day notice.

B. Overview of Requested Generic Clearance Renewal

By this notice, the Access Board announces that it has requested OMB renewal of our existing generic clearance so that we may continue ongoing efforts to solicit qualitative customer feedback on agency programs and services. OMB approval is requested for three years. Provided below is an overview of the existing generic clearance for which the Access Board seeks renewal:

OMB Control Number: 3014-0011.

Title: Generic Clearance for the Collection of Qualitative Feedback on Agency Service Delivery.

Type of Request: Extension without change.

Abstract: The proposed information collection activity facilitates collection of qualitative customer and stakeholder feedback in an efficient, timely manner, in accordance with the Federal Government's commitment to improving service delivery. By qualitative feedback we mean information collections that provide useful insights on perceptions and opinions but are not statistical surveys that yield quantitative results that can be generalized to the population of study. This feedback will provide insight into customer or stakeholder perceptions, experiences and expectations, provide an early warning of issues with service, or focus attention on areas where communication, training, or changes in operations might improve delivery of services. These collections will allow for ongoing, collaborative, and actionable communications between the Access Board and its customers and stakeholders.

Respondents/Affected Public: Individuals and Households; Businesses and Organizations; State, Local or Tribal Government.

Burden Estimates: In the table below (Table 1), the Access Board provides estimates for the annual reporting burden for the information collections proposed under this renewed generic information collection request. (The Access Board does not anticipate incurring any capital or other direct costs associated with this information collection. Nor will there be any costs to respondents, other than their time.)

Table 1—Estimated Annual Burden Hours
Type of collection | Number of respondents | Frequency of response (per year) | Average response time (mins.) | Total burden (hours)
Customer feedback surveys—Office of Technical and Information Services | 3,830 | 1 | 4 | 255
Customer feedback survey: ABA Compliance and enforcement program | 40 | 1 | 4 | 3
Totals: | 3,870 | n/a | n/a | 258
(Note: Total burden hours per collection rounded to the nearest full hour.)

Request for Comment: The Access Board seeks comment on any aspect of the proposed renewal of its existing generic clearance for the collection of qualitative feedback on agency service delivery, including (a) whether the proposed collection of information is necessary for the Access Board's performance; (b) the accuracy of the estimated burden; (c) ways for the Access Board to enhance the quality, utility, and clarity of the information collection; and (d) ways that the burden could be minimized without reducing the quality of the collected information.

Gretchen Jacobs,
General Counsel.

[FR Doc. 2021-04419 Filed 3-3-21; 8:45 am]

BILLING CODE 8150-01-P